DEPARTMENT OF JUSTICE

Foreign Claims Settlement Commission

[F.C.S.C. Meeting and Hearing Notice No. 01-24]

Sunshine Act Meeting

The Foreign Claims Settlement Commission, pursuant to its regulations (45 CFR part 503.25) and the Government in the Sunshine Act (5 U.S.C. 552b), hereby gives notice in regard to the scheduling of open meetings as follows:

TIME AND DATE: Tuesday, May 7, 2024, at 10:00 a.m. EST.

PLACE: All meetings are held at the Foreign Claims Settlement Commission, 441 G Street NW, Room 6330, Washington, DC.

STATUS: Open.

MATTERS TO BE CONSIDERED: 10:00 a.m.-Oral hearing on Objection to Commission's Proposed Decision in Claim No. ALB-352.

CONTACT PERSON FOR MORE INFORMATION: Requests for information, or advance notices of intention to observe an open meeting, may be directed to: Patricia M. Hall, Foreign Claims Settlement Commission, 441 G St NW, Room 6234, Washington, DC 20579. Telephone: (202) 616-6975.

Brian M. Simkin,
Chief Counsel.

[FR Doc. 2024-08975 Filed 4-23-24; 4:15 pm]

BILLING CODE 4410-BA-P